DEPARTMENT OF COMMERCE

National Oceanic and Atmospheric Administration

RIN 0648-XE138

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Committee to consider actions affecting New England fisheries in the exclusive economic zone (EEZ). Recommendations from this group will be brought to the full Council for formal consideration and action, if appropriate.

DATES: The meeting will be held on Tuesday, September 15, 2015 at 9:30 a.m.

ADDRESSES: The meeting will be held at the Hilton Garden Inn, 100 Boardman Street, Boston, MA 02128; phone: (617) 567-6789; fax: (617) 561-0798.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will receive a report from the September 14, 2015 Herring Advisory Panel (AP) meeting and consider the Herring AP recommendations. They also plan to review the Draft 2016-18 Atlantic Herring Fishery Specifications Package and develop committee recommendations regarding the selection of final 2016-18 Atlantic herring fishery specifications (anticipated at the September 2015 Council meeting). The committee will also review/discuss the Draft Environmental Assessment for the NMFS-led omnibus Industry-Funded Monitoring (IFM) Amendment and develop recommendations regarding the selection of a Preferred Alternative for the options to establish IFM in the Atlantic herring fishery. Additionally, the committee will provide an opportunity for the public to submit scoping comments on Amendment 8 to the Atlantic Herring Fishery Management Plan. They will also discuss other business as necessary.

Although non-emergency issues not contained in this agenda may come before this group for discussion, those issues may not be the subject of formal action during the meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 25, 2015.
Tracey L. Thompson,
Acting Deputy Director, Office of Sustainable Fisheries, National Marine Fisheries Service.

[FR Doc. 2015-21351 Filed 8-27-15; 8:45 am]

BILLING CODE 3510-22-P